FEDERAL COMMUNICATIONS COMMISSION

47 CFR Part 64

[CC Docket No. 98-67, FCC 03-190; DA 04-741]

Telecommunications Relay Services and Speech-to-Speech Services for Individuals With Hearing and Speech Disabilities

AGENCY: Federal Communications Commission.

ACTION: Final rule; announcement of effective date.

SUMMARY: In this document, the Commission announces that the Office of Management and Budget (OMB) approved for three years the information collection requirements contained in the Telecommunications Relay Services and Speech-to-Speech Services for Individuals with Hearing and Speech Disabilities, Declaratory Ruling, (Declaratory Ruling).

DATES: 47 CFR 64.604(a)(1) and (a)(3) published at 68 FR 55898, September 29, 2003 are effective March 26, 2004.

FOR FURTHER INFORMATION CONTACT: Dana Jackson or Cheryl King of the Consumer & Governmental Affairs Bureau, Disability Rights Office at (202) 418-2517 (voice), (202) 418-7898 (TTY).

SUPPLEMENTARY INFORMATION: This is a summary of the Commission's document released March 19, 2004 in DA 04-741 announcing OMB approval for three years the information collection requirements contained in Declaratory Ruling. The information collections were approved by OMB on February 20, 2004. OMB Control Number 3060-1053.

The Commission publishes this notice of the effective date of the rules. If you have any comments on these burden estimates, or how we can improve the collection(s) and reduce the burden(s) they cause you, please write to Les Smith, Federal Communications Commission, Room 1-A804, 445 12th Street, SW., Washington, DC 20554. Please include the OMB Control Number 3060-1053, in your correspondence. We will also accept your comments regarding the Paperwork Reduction Act aspects of the collection via the Internet, if you send them to Leslie.Smith@fcc.gov or call (202) 418-0217.

To request materials in accessible formats for people with disabilities (Braille, large print, electronic files, audio format), send an e-mail to fcc504@fcc.gov or call the Consumer & Governmental Affairs Bureau at (202) 418-0531 (voice), (202) 418-7365 (TTY). This Public Notice can also be downloaded in Text and ASCII formats at: http://www.fcc.gov/cgb/dro.

Synopsis

As required by the Paperwork Reduction Act of 1995 (44 U.S.C. 3507), the FCC is notifying the public that it received approval from OMB on February 20, 2004, for the collection(s) of information contained in the Commission's voluntary reporting requirements in 47 CFR 64.604(a)(1) and (a)(3). The OMB Control Number is 3060-1053. The annual reporting burden for the collection(s) of information, including the time for gathering and maintaining the collection of information, is estimated to be: 1 respondent, and average of 8 hours per response per annum, for a total hour burden of 8 hours, and no annual cost. Under 5 CFR 1320, an agency may not conduct or sponsor a collection of information unless it displays a current valid OMB Control Number.

No person shall be subject to any penalty for failing to comply with a collection of information subject to the Paperwork Reduction Act (PRA) that does not display a valid OMB Control Number.

The foregoing notice is required by the Paperwork Reduction Act of 1995, Pub. L. 104-13, October 1, 1995, 44 U.S.C. 3507.

Federal Communications Commission.
Marlene H. Dortch,
Secretary.

[FR Doc. 04-6821 Filed 3-25-04; 8:45 am]

BILLING CODE 6712-01-P